DEPARTMENT OF HEALTH AND HUMAN SERVICES

Centers for Disease Control and Prevention

[30Day-26-04]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503 or by fax to (202) 395-6974. Written comments should be received within 30 days of this notice.

Proposed Project: Epidemiologic Study Of Gastrointestinal Health Effects And Exposure To Disinfection Byproducts Associated With Consumption Of Conventionally Treated Groundwater—New—National Center for Environmental Health (NCEH), Centers for Disease Control and Prevention (CDC).

The primary goal of drinking water treatment is the removal of microorganisms responsible for waterborne disease. The addition of disinfectants such as chlorine is one of the most important steps in pathogen inactivation and may in some cases (such as in many groundwater systems) be the only treatment employed. However, chlorine also reacts with organic compounds in the water to produce halogenated organic byproducts (disinfection by-products [DBPs]). One of the most commonly measured groups of DBPs is the trihalomethanes (THMs). Human exposure to THMs has been associated with bladder and colorectal cancer. Public water providers must constantly balance the acute risks of gastrointestinal (GI) illness associated with exposure to microbial pathogens against the long-term risks associated with exposure to DBPs.

Each study household will be visited at the beginning and end of the study to enroll the study participants and to collect biological specimens (blood and serum samples will be collected from a subset (50 percent) of adult household members at the beginning and end of the study) and water samples. A questionnaire will be administered in the home at the beginning of the study to collect data about water use habits and possible exposures to microbial pathogens and THMs. All household members will be asked to provide a saliva specimen each month for the duration of the one-year study. Stool specimens will be collected during episodes of GI symptoms.

The specific aims of the study are to: (1) Determine the risk for GI illness associated with source water quality and treatment efficacy by comparing GI illness rates in people drinking highly treated bottled water with GI illness rates in people drinking bottled plant water; (2) determine the risk for GI illness associated with the distribution system by comparing GI illness rates in people drinking bottled plant water with GI illness rates in people drinking tap water; (3) determine water concentrations and associated blood concentrations of THMs in the study population; and (4) validate and refine existing models of THM exposure using the THM data collected at the participating households and hydraulic and water quality data collected in the distribution system at the time of household recruitment. The estimated annualized burden is 12,934 hours.

Respondents | Number of respondents | Number of responses/respondents | Average burden/respondent (in hrs.)
Telephone contact | 12,000 | 1 | 10/60
Household enrollment interview | 1,000 | 1 | 10/60
Individual enrollment interview | 4,000 | 1 | 15/60
Water exposure interview | 900 | 2 | 15/60
Biweekly health diary | 4,000 | 26 | 2/60
Biweekly telephone interview | 900 | 26 | 15/60

Dated: February 12, 2004.
Alvin Hall,
Director, Management Analysis and Services Office, Centers for Disease Control and Prevention.

[FR Doc. 04-3685 Filed 2-19-04; 8:45 am]

BILLING CODE 4163-18-P